DEPARTMENT OF LABOR

Agency Information Collection Activities; Comment Request; DOL Generic Solution for Funding Opportunity Announcements

ACTION: Notice; request for comments.

AGENCY: Office of the Assistant Secretary for Administration and Management, Labor.

SUMMARY: In compliance with the Paperwork Reduction Act of 1995 (PRA), the DOL is soliciting public comments regarding the proposed extension of this Office of the Assistant Secretary for Administration and Management (OASAM)-sponsored information collection for the authority to continue the information collection request (ICR) titled, “DOL Generic Solution for Funding Opportunity Announcements,” currently approved under OMB Control Number 1225-0086.

DATES: Consideration will be given to all written comments received by March 21, 2022.

ADDRESSES: A copy of this ICR with applicable supporting documentation, including a description of the likely respondents, proposed frequency of response, and estimated total burden, may be obtained free by contacting Mara Blumenthal by email at DOL_PRA_PUBLIC@dol.gov.

Electronic submission: You may submit comments and attachments electronically at DOL_PRA_PUBLIC@dol.gov, identified by OMB Control Number 1225-0086.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at DOL_PRA_PUBLIC@dol.gov.

SUPPLEMENTARY INFORMATION: Periodically the DOL solicits grant applications by issuing a Funding Opportunity Announcement. To ensure grants are awarded to the applicant(s) best suited to perform the functions of the grant, applicants are generally required to submit a two-part application. The first part of DOL grant applications consists of submitting Standard Form 424, Application for Federal Assistance. The second part of a grant application usually requires a technical proposal demonstrating the applicant's capabilities in accordance with a statement of work and/or selection criteria. This information collection is subject to the PRA.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OASAM.

Type of Review: Extension.

Title of Collection: DOL Generic Solution for Funding Opportunity Announcements.

OMB Control Number: 1225-0086.

Affected Public: State, Local, and Tribal Governments; Private Sector—Businesses or other for-profits and not-for-profit institutions.

Total Estimated Number of Respondents: 8,000.

Frequency: On Occasion.

Total Estimated Number of Responses: 8,000.

Estimated Average Time per Response: 20 hours.

Total Estimated Annual Time Burden: 160,000 hours.

Total Estimated Annual Other Costs Burden: $0.

(Authority: 44 U.S.C. 3506(c)(2)(A))

Nora Hernandez,
Departmental Clearance Officer.

[FR Doc. 2022-01016 Filed 1-19-22; 8:45 am]

BILLING CODE 4510-23-P